DEPARTMENT OF LABOR

Office of the Secretary

Agency Information Collection Activities; Submission for OMB Review; Comment Request; Green Technologies and Practices (GTP) Survey

ACTION: Notice.

SUMMARY: The Department of Labor (DOL) is submitting the Bureau of Labor Statistics (BLS) information collection request (ICR) titled, “Green Technologies and Practices Survey,” to the Office of Management and Budget (OMB) for review and approval in accordance with the Paperwork Reduction Act (PRA) of 1995 (Pub. L. 104-13, 44 U.S.C. chapter 35).

DATES: Submit comments on or before June 23, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to dol_pra_public@dol.gov.

Submit comments about this request to the Office of Information and Regulatory Affairs, Attn: OMB Desk Officer for the Department of Labor, Bureau of Labor Statistics (BLS), Office of Management and Budget, Room 10235, Washington, DC 20503, Telephone: 202-395-6929/Fax: 202-395-6881 (these are not toll-free numbers), e-mail: oira_submission@omb.eop.gov.

FOR FURTHER INFORMATION CONTACT: Michel Smyth by telephone at 202-693-4129 (this is not a toll-free number) or by e-mail at dol_pra_public@dol.gov.

SUPPLEMENTARY INFORMATION: The Occupational Employment Statistics (OES) program has been funded to collect and produce objective and reliable information on occupational employment and wages for green jobs at the establishment level. This is to be conducted through a special employer survey. This work is necessary to meet the publication objective outlined in the FY2010 Congressional Appropriation. The GTP Survey will collect information on jobs within firms that use green technologies and practices as a part of business operations, regardless of the products or services produced.

OMB clearance is being sought for the “BLS Green Technologies and Practices Survey.” The goal of the BLS and its OES program is to produce economic statistics on employment related to the use of environmentally friendly technologies and practices across the U.S. economy. Using its business establishment register, the OES program intends to survey establishments about these green activities and the associated employment. The survey will identify employers performing green activities, determine whether they have any employees performing tasks associated with these activities, gather information to classify those employees according to the Standard Occupational Classification (SOC) system, and collect wage rate information.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. For additional information, see the related notice published in the Federal Register on February 3, 2011 (76 FR 6161).

Interested parties are encouraged to send comments to the OMB, Office of Information and Regulatory Affairs at the address shown in the ADDRESSES section within 30 days of the publication of this notice in the Federal Register. In order to help ensure appropriate consideration, comments should reference ICR Reference Number 121103-1220-003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submissions of responses.

Agency: Bureau of Labor Statistics (BLS).

Title of Collection: Green Technologies and Practices Survey.

Type of Review: New Collection (Request for a new OMB Control Number).

ICR Reference Number: 201103-1220-003.

Affected Public: Private Sector—Businesses or other for-profits and not-for-profit institutions; Federal Government; State, Local, and Tribal Governments.

Total Estimated Number Responses: 27,001.

Total Estimates Annual Burden Hours: 9,001.

Total Estimated Annual Costs Burden: $0.

Dated: May 17, 2011.
Michel Smyth,
Departmental Clearance Officer.

[FR Doc. 2011-12643 Filed 5-23-11; 8:45 am]

BILLING CODE 4510-24-P